DEPARTMENT OF ENERGY

Federal Energy Regulatory Commission

[Docket No. EL02-24-000]

Mid-Tex G&T Electric Cooperative, Inc., Big Country Electric Cooperative, Inc., Brazos Electric Power Cooperative, Inc.; Coleman County Electric Cooperative, Inc., Concho Valley Electric Cooperative, Inc., Golden Spread Electric Cooperative, Inc., Rio Grande Electric Cooperative, Inc., Southwest Texas Electric Cooperative, Inc., and Taylor Electric Cooperative, Inc., Complainants, v. West Texas Utilities Company, Respondent; Notice of Complaint

November 21, 2001.

Take notice that on November 20, 2001, Mid-Tex G&T Electric Cooperative, Inc., Big Country Electric Cooperative, Inc., Brazos Electric Power Cooperative, Inc. Coleman County Electric Cooperative, Inc., Concho Valley Electric Cooperative, Inc., Golden Spread Electric Cooperative, Inc., Lighthouse Electric Cooperative, Inc., Rio Grande Electric Cooperative, Inc., Southwest Texas Electric Cooperative, Inc., and Taylor Electric Cooperative, Inc. filed a Complaint against West Texas Utilities Company (WTU), alleging violations of WTU's Wholesale Power Choice Tariff, TR-1 Tariff, and the Commission's Fuel Adjustment Clause Regulations, 18 CFR 35.14. The Complainants have requested fast track processing.

WTU has been served with a copy of the Complaint.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before December 10, 2001. Protests will be considered by the Commission in determining the appropriate action to be taken, but will not serve to make protestants parties to the proceeding. Any person wishing to become a party must file a motion to intervene. Answers to the complaint shall also be due on or before December 10, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29574 Filed 11-27-01; 8:45 am]

BILLING CODE 6717-01-P